FEDERAL COMMUNICATIONS COMMISSION

47 CFR Part 73

[DA 04-964; MB Docket No. 04-146; RM-10871]

Radio Broadcasting Services; Fort Rucker, Ozark & Slocomb, AL

AGENCY: Federal Communications Commission.

ACTION: Proposed rule.

SUMMARY: This document requests comments on a petition for rulemaking filed by Sytles Media Group, LLC and Styles Broadcasting of Dothan, Inc. requesting the substitution of Channel 26C3C for Channel 263A at Fort Rucker, AL, reallotment of Channel 263C3 from Fort Rucker, AL to Slocomb, AL, and modification of the license for Station wxus to specify operation at Slocomb. Channel 263C3 can be allotted to Slocomb at coordinates 31-06-36 and 85-35-40. To preserve local service at Fort Rucker, LA, petitioner also requests the reallotment of Channel 280C3 from Ozark, AL to Fort Rucker, AL and modification of the license for Station WJRL to specify operation at Fort Rucker. The coordinates for Channel 280C3 at Fort Rucker are 31-26-63 and 85-32-21. In accordance with the provisions of Section 1.420(i) of the Commission's Rules, we shall not accept competing expressions of interest for the use of Channel 263C3 at Slocomb or Channel 280C3 at Fort Rucker.

DATES: Comments must be filed on or before June 7, 2004, and reply comments on or before June 22, 2004.

ADDRESSES: Federal Communications Commission, 445 Twelfth Street, SW., Washington, DC 20554. In addition to filing comments with the FCC, interested parties should serve the petitioner's counsel, as follows: Marissa G. Repp, Hogan & Hartson L.L.P., 555 Thirteenth Street, NW., Washington, DC 20004-1109.

FOR FURTHER INFORMATION CONTACT: Kathleen Scheuerle, Media Bureau, (202) 418-2180.

SUPPLEMENTARY INFORMATION: This is a synopsis of the Commission's Notice of Proposed Rule Making, MB Docket No. 04-146, adopted April 12, 2004, and released April 14, 2004. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Alabama, is amended by removing Channel 263A and by adding Channel 280C3 at Fort Rucker, by removing Channel 280C3 at Ozark and by adding Slocomb, Channel 263C3.

Federal Communications Commission.
John A. Karousos,
Assistant Chief, Audio Division, Media Bureau.

[FR Doc. 04-10578 Filed 5-7-04; 8:45 am]

BILLING CODE 6712-01-P